FEDERAL MARITIME COMMISSION

Ocean Transportation Intermediary License Reissuances

The Commission gives notice that the following Ocean Transportation Intermediary licenses have been reissued pursuant to section 19 of the Shipping Act of 1984 (46 U.S.C. 40101) effective on the date shown.

License No.: 021628F.

Name: A & S Shipping Company, Inc.

Address: 2759 NW. 82nd Avenue, Miami, FL 33122.

Date Reissued: October 25, 2012.

License No.: 022988N.

Name: World Class Solutions LLC.

Address: 3901 NW. 79th Avenue, Suite 230, Doral, FL 33166.

Date Reissued: November 8, 2012.

Vern W. Hill,
Director, Bureau of Certification and Licensing.

[FR Doc. 2012-30041 Filed 12-12-12; 8:45 am]

BILLING CODE 6730-01-P